SECURITIES AND EXCHANGE COMMISSION

[Release No. 34-44717; File No. SR-CBOE-2001-43]

Self-Regulatory Organizations; Notice of Filing and Immediate Effectiveness of Proposed Rule Change by the Chicago Board Options Exchange, Inc. Regarding Its Marketing Fee

August 16, 2001.

Pursuant to Section 19(b)(1) of the Securities Exchange Act of 1934 (“Act”) ¹ and Rule 19b-4 thereunder,² notice is hereby given that on August 1, 2001, the Chicago Board Options Exchange, Inc. (“CBOE”) filed with the Securities and Exchange Commission (“Commission”) the proposed rule change as described in Items I, II, and III below, which Items the CBOE has prepared. The Commission is publishing this notice to solicit comments on the proposed rule change from interested persons.

¹ 15 U.S.C. 78s(b)(1).

² 17 CFR 240.19b-4.

I. Self-Regulatory Organization's Statement of the Terms of Substance of the Proposed Rule Change

The CBOE proposes to reduce the amount of its marketing fee from $0.40 per contract to $0.00. The text of the proposed rule change is available at the CBOE and at the Commission.

II. Self-Regulatory Organization's Statement of the Purpose of, and Statutory Basis for, the Proposed Rule Change

In its filing with the Commission, the CBOE included statements concerning the purpose of and basis for the proposed rule change and discussed any comments it received on the proposed rule change. The text of these statements may be examined at the places specified in Item IV below. The CBOE has prepared summaries, set forth in Sections A, B, and C below, of the most significant aspects of such statements.

A. Self-Regulatory Organization's Statement of the Purpose of, and Statutory Basis for, the Proposed Rule Change

In July 2000, the CBOE imposed a $0.40 per contract marketing fee to collect funds to be used by the appropriate Designated Primary Market Maker (“DPM”) to attract order flow to the CBOE.³ The CBOE now proposes to reduce the amount of the marketing fee, effective August 1, 2001, to $0.00 per contract. The effect of this fee reduction is that the CBOE is suspending the assessment of the marketing fee. The CBOE is reserving the right to reinstate the marketing fee at a future date. Any reinstatement of the fee would be done pursuant to a rule filing with the Commission.⁴

³ See Securities Exchange Act Release No. 43112 (August 3, 2000) 65 FR 49040 (August 10, 2000) (File No. SR-CBOE-2000-28).

⁴ The CBOE notes that if it were to reinstate the marketing fee, it could establish a per-contract fee different from the $0.40 currently charged.

The CBOE will continue to perform administrative functions under the current marketing fee program until all previously collected funds are distributed. The CBOE also will continue to pay interest on the funds in the DPM marketing fee accounts until these funds are distributed. Effective September 1, 2001, the CBOE also proposes to suspend the $10,000 monthly fee that has been imposed to help cover expenses related to its administration of the marketing fee program.⁵ The CBOE expects that this administrative fee will remain suspended until such time as the CBOE determines, if at all, to reinstate the marketing fee described above.⁶

⁵ See Securities Exchange Act Release No. 44469 (June 22, 2001) 66 FR 35301 (July 3, 2001) (File No. SR-CBOE-2001-25).

⁶ The CBOE states that any decision to reinstate the administrative fee would be filed with the Commission as a rule change.

The CBOE believes that the proposed rule change is consistent with Section 6(b) of the Act ⁷ and furthers the objectives of Section 6(b)(4) of the Act ⁸ in that it is designed to provide for the equitable allocation of reasonable dues, fees, and other changes among CBOE members.

⁷ 15 U.S.C. 78f(b).

⁸ 15 U.S.C. 78f(b)(4).

B. Self-Regulatory Organization's Statement on Burden on Competition

The CBOE does not believe that the proposed rule change will impose any burden on competition not necessary or appropriate in furtherance of purposes of the Act.

C. Self-Regulatory Organization's Statement on Comments on the Proposed Rule Change Received From Members, Participants, or Others

The CBOE neither solicited nor received comments with respect to the proposed rule change.

III. Date of Effectiveness of the Proposed Rule Change and Timing for Commission

Because the CBOE has designated the foregoing proposed rule change as a fee change pursuant to Section 19(b)(3)(A) of the Act ⁹ and Rule 19b-4(f)(2) thereunder,¹⁰ the proposal has become effective immediately upon filing with the Commission. At any time within 60 days after the filing of this proposed rule change, the Commission may summarily abrogate the rule change if it appears to the Commission that such action is necessary or appropriate in the public interest, for the protection of investors, or otherwise in furtherance of the purposes of the Act.

⁹ 15 U.S.C. 78s(b)(3)(A).

¹⁰ 17 CFR 240.19b-4(f)(2).

IV. Solicitation of Comments

The Commission invites interested persons to submit written data, views, and arguments concerning the foregoing, including whether the proposed rule change is consistent with the Act. Persons making written submissions should file six copies thereof with the Secretary, Securities and Exchange Commission, 450 Fifth Street, N.W., Washington, D.C. 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the CBOE. All submissions should refer to SR-CBOE-2001-43 and should be submitted by September 14, 2001.

For the Commission, by the Division of Market Regulation, pursuant to delegated authority.¹¹
¹¹ 17 CFR 200.30-3(a)(12).
Jonathan G. Katz,
Secretary.

[FR Doc. 01-21368 Filed 8-23-01; 8:45 am]

BILLING CODE 8010-01-M